DEPARTMENT OF DEFENSE

Department of the Army, Corps of Engineers

Intent To Prepare a Draft Environmental Impact Statement (DEIS) for Upper Columbia Basin Alternative Flood Control and Fish Operations at Libby Dam, Montana; Hungry Horse Dam, Montana; and Grand Coulee Dam, Washington

AGENCY: US Army Corps of Engineers (Corps), DoD and US Bureau of Reclamation (Bureau), Department of Interior.

ACTION: Notice of intent.

SUMMARY: Pursuant to section 102(2)(C) of the National Environmental Policy Act (NEPA) of 1969, as amended, the US Army Corps of Engineers (Corps), and the Bureau of Reclamation (Bureau) propose to prepare an Environmental Impact Statement (EIS) on operational alternatives for the conservation of threatened and endangered species of fish listed for protection under the Endangered Species Act. (The Corps has responsibility for publishing the notice in the Federal Register and for preparing and filing the EIS.) Specifically, this EIS will address those operational actions for Libby, Hungry Horse, and Grand Coulee Dams identified by the National Marine Fisheries Service (NMFS) and the US Fish and Wildlife Service (USFWS) as Reasonable and Prudent Alternatives in their Biological Opinions (BiOps) both dated December 21, 2000. Those BiOps call for the Corps of Engineers and Bureau of Reclamation to undertake various actions at their 14 main Federal Columbia River Power System (FCRPS) dams to assist in recovery of fish species listed under the Endangered Species Act in the Columbia River basin. Among those actions is implementation of an alternative flood control strategy, called variable discharge (variable Q, or VARQ), required at Libby and Hungry Horse Dams. This strategy has potential impacts in other parts of the Columbia system, and results in different operation at Grand Coulee Dam. All three reservoirs are storage reservoirs, and Libby and Hungry Horse are on headwater tributaries to the Columbia River, the Kootenai and South Fork Flathhead, respectively, while Grand Coulee is on the mainstream Columbia. Libby is a Corps project, and Hungry Horse and Grand Coulee are Bureau projects. VARQ is a flood control operation that reduces wintertime reservoir drawdown at Libby and Hungry Horse for floodwater storage compared to existing operation, and provides better assurance of reservoir refill in summer, to meet multiple water uses. The no-action alternative is called BASE-CRT63, and consists of the existing flood control operation.

In addition, the NMFS BiOp calls for summer flow augmentation from Grand Coulee Dam for juvenile salmon out-migration, as well as provision for fall flows for lower Columbia chum salmon spawning and incubation. The USFWS BiOp calls for reduction of adverse effects of flow fluctuations on bull trout below Hungry Horse and Libby dams, and for maintenance of minimum year-round flows for bull trout.

FOR FURTHER INFORMATION CONTACT: Questions regarding the scoping process or preparation of the DEIS may be directed to Dr. Stephen Martin, U.S. Army Corps of Engineers, Seattle District, Environmental Resources Section, PO Box 3755, Seattle, Washington 98124-3755; telephone (206) 764-3631; e-mail stephen.g.martin@usace.army. mil.

SUPPLEMENTARY INFORMATION:

1. Proposed Action

The Federal Columbia River Power System (FCRPS) comprises 14 major dams and a number of smaller ones. Libby, Hungry Horse and Grand Coulee dams are among the 14 large projects. The BiOps from the USFWS and NMFS were both issued on December 21, 2000, under Section 7 of the Endangered Species Act, as amended, in response to a Biological Assessment and supplementary information concerning effects of the FCRPS on listed stocks of white sturgeon, bull trout, salmon and steelhead in the Columbia and tributaries. Libby and Hungry Horse dams store water primarily for hydropower and flood control, as well as for other purposes such as fish and wildlife and recreation. Libby Dam is located at river mile (RM) 222 on the Kootenai River in northwestern Montana; when full, the reservoir (Lake Koocanusa) backs into southern British Columbia, Canada. Hungry Horse Dam is at RM 5 on the South Fork Flathead River, part of the Flathead/Clark Fork/Pend Oreille system, also in northwestern Montana. The two systems are adjacent to each other. Grand Coulee Dam is at RM 597 on the Columbia River in northeastern Washington State.

In general, flood control using reservoirs involves maintaining the reservoir low enough to impound inflow from high-runoff events such as rainstorms and sudden snowmelts. In multipurpose storage reservoirs, it means drawing down the reservoir beginning in early fall through March or April to a surface elevation appropriate for the runoff forecast for the coming spring and summer (generally based on snowpack readings). Then refill begins, and the reservoir is generally full by the end of July, where it is maintained through August. For Libby, Hungry Horse and Grand Coulee, water passed through the dam is used for power generation, and lowering the reservoir elevation serves to meet increased power needs of the region in fall and winter.

VARQ is an alternative flood control strategy intended to meet other needs by better assuring reservoir refill and higher spring flows, to come closer to natural snowmelt runoff conditions in the rivers. That runoff is impounded by Libby and Hungry Horse dams, which under normal operations released only minimum flows during that period. In the Kootenai River, starting in the 1990s, drawing down the reservoirs for power generation below the required flood control elevation has been curtailed in winter to allow water storage for flow augmentation in spring. In addition to benefiting sturgeon, it also benefits juvenile salmon outmigration in the lower Columbia River. Furthermore, August flow augmentation for Columbia salmon outmigration has also been provided from Libby in response to 1995 NMFS BiOp requirements.

VARQ is related to the Montana Department of Fish, Wildlife and Parks Integrated Rule Curves (IRCs) as an alternative flood control strategy. In lower and medium runoff-forecast years, compared to VARQ, IRCs allow deeper reservoir drawdown in winter, which benefits power.

As called for by USFWS and NMFS BiOps, the Corps and Bureau are to implement VARQ at Libby and Hungry Horse dams, as well as other actions for benefit of listed fish stocks in the Columbia basin. If remaining studies of system flood control prove VARQ feasible, and other impacts are either not significant or can be mitigated, then it would be implemented the next winter following completion of NEPA documentation.

Other operations to provide water in summer and fall for salmon outmigration, spawning and incubation are also part of the proposed action, as are reduction of adverse effects of flow fluctuation below Libby and Hungry Horse dams, and provision of minimum flows for bull trout.

2. Alternatives

Alternatives to be evaluated will include existing operation (no-action), which includes current flood control operation with flow augmentation in spring for white sturgeon, bull trout, and salmon; VARQ with spring and summer flow augmentation for fish; increased summertime drawdown of Lake Roosevelt (Grand Coulee Dam) to meet summer flow objectives for salmon; and fall flow augmentation for salmon spawning and incubation in the lower Columbia. The scoping process will be used to derive the full range of reasonable alternatives.

3. Scoping and Public Involvement

Public involvement will be sought during the scoping and conduct of the study in accordance with NEPA procedures. Public meetings will be held in affected communities during scoping, and during public review of the DEIS. A public scoping process will be initiated to clarify issues of major concern, identify studies that might be needed in order to analyze and evaluate impacts, and obtain public input on the range and acceptability of alternatives. This notice of intent formally commences the joint scoping process under NEPA. As part of the scoping process, all affected Federal, State and local agencies, Native American Tribes, and other interested private organizations, including environmental interest groups, are invited to comment on the scope of the EIS. Comments are requested concerning project alternatives, mitigation measures, probable significant environmental impacts, and permits or other approvals that may be required.

To date, the following issues of concern have been identified to be analyzed in depth in the draft EIS: (1) Flood control impacts on a local and a system-wide basis; (2) fisheries and other aquatic ecosystem impacts and benefits in affected reservoirs and downstream in the Kootenai and Flathead systems and on the mainstem Columbia; (3) effects of potential increase in frequency of spill and impacts from dissolved gas on aquatic organisms; (4) groundwater seepage in lands from prolonged high spring flows along the Kootenai River in Idaho; (5) levee integrity concerns from prolonged high spring flows along the Kootenai River in Idaho and British Columbia; (6) potential for increased suspension of sediments due to drawdown of Lake Roosevelt (Grand Coulee); (7) potential aerial transport of contaminants (mainly heavy metals) from exposed Lake Roosevelt sediments; (8) exposure, looting and vandalism of prehistoric artifacts and human remains along Lake Roosevelt; (9) recreational impacts on affected reservoirs; (10) Columbia system power generation impacts; and (11) power generation impacts at Canadian projects downstream of Libby Dam, a treaty issue.

There are fish stocks listed under ESA that would be directly affected by the proposed action, including Kootenai River white sturgeon (endangered), bull trout (Salvelinus confluentus) (threatened); various stocks of chinook (Oncorhynchus tshawytscha), chum (O. keta) and sockeye (O. nerka) salmon, and steelhead (O. mykiss).

A notice of scoping meetings will be mailed to all involved agencies and individuals known to have an interest in this project. Scoping meetings are scheduled as follows:

(1) Grand Coulee, Grant Co., Washington, Oct. 29, 2001.

(2) Sandpoint, Bonner Co., Idaho, October 30, 2001.

(3) Bonners Ferry, Boundary Co., Idaho, November 1, 2001.

(4) Portland, Multnomah Co., Oregon, November 8, 2001.

(5) Libby, Lincoln Co., Montana, November 13, 2001.

(6) Eureka, Lincoln Co., Montana, November 14, 2001.

(7) Kalispell, Flathead Co., Montana, November 15, 2001.

These dates, or revised dates, as well as specific times and locations will be published in each town's newspaper approximately 30 days before each meeting. Specific dates and times can also be verified by visiting the Corps of Engineers' website at www.nws.usace.army.mil/index.cfm. There will also be up to six government-to-government meetings with Tribal council members in affected areas. Verbal or written comments will be accepted at the scoping meetings, or written comments may be sent by regular or electronic mail to Stephen Martin at the above addresses on or before November 2, 2001. Ongoing communication with agencies, Native American tribes, public interest groups, and interested citizens will take place throughout the EIS development through the use of public meetings, mailings, and the Internet.

4. Other Environmental Review, Coordination and Permit Requirements

The environmental review process will be comprehensive and will integrate and satisfy the requirements of NEPA, and other relevant Federal, State and local environmental laws. Other environmental review, coordination, and permit requirements may include preparation of a Clean Water Act, Section 404 evaluation by the Corps.

5. Schedule

The draft EIS is scheduled for release in Fall, 2003.

Ralph H. Graves,
Colonel, Corps of Engineers, District Engineer.

[FR Doc. 01-24481 Filed 9-28-01; 8:45 am]

BILLING CODE 3710-ER-M